DEPARTMENT OF THE INTERIOR

Bureau of Land Management

[LLOROR957000-L62510000-PM000: HAG10-0178]

Filing of Plats of Survey: Oregon/Washington

AGENCY: Bureau of Land Management, Interior.

ACTION: Notice.

SUMMARY: The plats of survey of the following described lands are scheduled to be officially filed in the Bureau of Land Management Oregon/Washington State Office, Portland, Oregon, 30 days from the date of this publication.

Willamette Meridian

Oregon

T. 3 S., R. 41 E., accepted January 15, 2010

T. 30 S., R. 11 W., accepted January 22, 2010

T. 2 N., R. 33 E., accepted January 27, 2010

T. 38 S., R. 1 W., accepted January 27, 2010

T. 18 S., R. 12 W., accepted January 27, 2010

T. 2 N., R. 33 E., accepted January 28, 2010

Washington

T. 10 N., R. 31 E., accepted February 9, 2010

ADDRESSES: A copy of the plats may be obtained from the Land Office at the Oregon/Washington State Office, Bureau of Land Management, 333 S.W. 1st Avenue, Portland, Oregon 97204, upon required payment. A person or party who wishes to protest against a survey must file a notice that they wish to protest (at the above address) with the Oregon/Washington State Director, Bureau of Land Management, Portland, Oregon.

FOR FURTHER INFORMATION CONTACT: Chief, Branch of Geographic Sciences, Bureau of Land Management, 333 S.W. 1st Avenue, Portland, Oregon 97204.

Dated: March 5, 2010.
Cathie Jensen,
Branch of Land, Mineral, and Energy Resources.

[FR Doc. 2010-5668 Filed 3-15-10; 8:45 am]

BILLING CODE 4310-33-P